DEPARTMENT OF ENERGY

Federal Energy Regulatory Commission

Combined Notice of Filings #1

Take notice that the Commission received the following electric rate filings:

Docket Numbers: ER10-3297-011.

Applicants: Powerex Corp. .

Description: Notice of Change in Status and Request for Confidential Treatment of Powerex Corp.

Filed Date: 11/15/17.

Accession Number: 20171115-5236.

Comments Due: 5 p.m. ET 12/6/17.

Docket Numbers: ER11-3417-013; ER11-2292-019; ER11-3942-018; ER11-2293-019; ER10-2917-018; ER11-2294-017; ER12-2447-017; ER13-1613-011 ER10-2918-019; ER10-2920-018; ER11-3941-016; ER10-2921-018; ER10-2922-018; ER13-1346-009; ER10-2966-018; ER11-2383-013; ER10-3178-010; ER12-161-018; ER12-2068-014; ER12-645-019; ER10-2460-014; ER10-2461-015; ER12-682-015; ER10-2463-014; ER11-2201-018; ER13-1139-017; ER13-17-012; ER14-25-014; ER14-2630-010; ER12-1311-014; ER10-2466-015; ER11-4029-014; ER10-2895-018; ER14-1964-009; ER16-287-004; ER13-2143-011; ER10-3167-010; ER13-203-010; ER17-482-003.

Applicants: Alta Wind VIII, LLC, Bear Swamp Power Company LLC, BIF II Safe Harbor Holdings, LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Notice of Change in Status of the Brookfield Companies and TerraForm Companies.

Filed Date: 11/15/17.

Accession Number: 20171115-5251.

Comments Due: 5 p.m. ET 12/6/17.

Docket Numbers: ER17-1657-000.

Applicants: Armstrong Power, LLC.

Description: Report Filing: Refund Report—Informational Filing (EL16-79) to be effective N/A.

Filed Date: 11/15/17.

Accession Number: 20171115-5227.

Comments Due: 5 p.m. ET 12/6/17.

Docket Numbers: ER17-1658-000.

Applicants: Calumet Energy Team, LLC.

Description: Report Filing: Refund Report—Informational Report (EL16-80-000) to be effective N/A.

Filed Date: 11/15/17.

Accession Number: 20171115-5217.

Comments Due: 5 p.m. ET 12/6/17.

Docket Numbers: ER17-1659-000.

Applicants: Northeastern Power Company.

Description: Report Filing: Refund Report—Informational Filing (EL16-81-000) to be effective N/A.

Filed Date: 11/15/17.

Accession Number: 20171115-5220.

Comments Due: 5 p.m. ET 12/6/17.

Docket Numbers: ER17-1660-000.

Applicants: Pleasants Energy, LLC.

Description: Report Filing: Refund Report—Informational Filing (EL16-82-000) to be effective N/A.

Filed Date: 11/15/17.

Accession Number: 20171115-5228.

Comments Due: 5 p.m. ET 12/6/17.

Docket Numbers: ER17-1661-000.

Applicants: Troy Energy, LLC.

Description: Report Filing: Refund Report—Informational Filing (EL16-83-000) to be effective N/A.

Filed Date: 11/15/17.

Accession Number: 20171115-5229.

Comments Due: 5 p.m. ET 12/6/17.

Docket Numbers: ER17-1663-000.

Applicants: Elwood Energy LLC.

Description: Report Filing: Refund Report—Informational Report (EL16-98-000) to be effective N/A.

Filed Date: 11/15/17.

Accession Number: 20171115-5192.

Comments Due: 5 p.m. ET 12/6/17.

Docket Numbers: ER18-299-000.

Applicants: PJM Interconnection, L.L.C.

Description: § 205(d) Rate Filing: Original Service Agreement No. 4841; Queue No. AC2-136 (WMPA) to be effective 10/25/2017.

Filed Date: 11/16/17.

Accession Number: 20171116-5004.

Comments Due: 5 p.m. ET 12/7/17.

Docket Numbers: ER18-300-000.

Applicants: Midcontinent Independent System Operator, Inc.

Description: Limited waiver request of Midcontinent Independent System Operator, Inc. under ER18-300.

Filed Date: 11/15/17.

Accession Number: 20171115-5240..

Comments Due: 5 p.m. ET 12/6/17.

Docket Numbers: ER18-301-000.

Applicants: Ormesa LLC.

Description: Baseline eTariff Filing: Petition for Approval of Initial Market-Based Rate Tariff to be effective 11/30/2017.

Filed Date: 11/16/17.

Accession Number: 20171116-5017.

Comments Due: 5 p.m. ET 12/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2017.
Kimberly D. Bose,
Secretary.

[FR Doc. 2017-25326 Filed 11-21-17; 8:45 am]

BILLING CODE 6717-01-P